DEPARTMENT OF HOMELAND SECURITY

Coast Guard

[Docket No. USCG-2024-0740]

Policy Letter for the Application of Fishing Vessel Construction Requirements

AGENCY: Coast Guard, DHS.

ACTION: Notice of availability.

SUMMARY: The Coast Guard announces the availability, online and in the docket, of Office of Commercial Vessel Compliance Policy Letter 24-02, titled “Application of Fishing Vessel Construction Requirements.” This policy letter communicates Coast Guard thinking as it relates to construction requirements for commercial fishing vessels.

FOR FURTHER INFORMATION CONTACT: For information about this document call or email Mr. Joseph D. Myers at the Office of Commercial Vessel Compliance COMDT (CG-CVC), Fishing Vessel Safety Division, telephone 571-608-5685, email at Joseph.D.Myers@uscg.mil.

Background and Purpose

CG-CVC has recently released CVC Policy Letter 24-02 “Application of Fishing Vessel Construction Requirements.” This directive communicates the Coast Guards thinking on applicable requirements that pertain to commercial fishing industry vessels as specified in 46 United States U.S. Code (U.S.C.) 4503.

In lieu of the classing requirements specified in U.S.C. 4503(a), certain fishing vessels and fish tender vessels that are between 50 and 180 feet overall in length and were built after the date of the enactment of the Coast Guard Authorization Act of 2016 may meet alternative requirements as specified in 46 U.S.C. 4503(d). CVC Policy Letter 24-02 provides a breakdown of the (8) relevant sections of 46 U.S.C. 4503(d) which outlines various requirements related to vessel design and construction, project oversight and certification, and post construction surveys, maintenance, and documentation. It is essential that stakeholders such as Coast Guard authorities, vessel owner/operators, ship builders, and third-party organization surveyors understand relevant parameters and applicability.

CVC Policy Letter 24-02 can be accessed at: https://www.dco.uscg.mil/Our-Organization/Assistant-Commandant-for-Prevention-Policy-CG-5P/Inspections-Compliance-CG-5PC-/Commercial-Vessel-Compliance/Fishing-Vessel-Safety-Division/CVC-3-Home-Page/.

This notice is issued under authority of 46 U.S.C. 4503 and 5 U.S.C. 552(a).

M. Neeland,
Captain, U.S. Coast Guard, Chief, Office of Commercial Vessel Compliance.

[FR Doc. 2024-19590 Filed 8-29-24; 8:45 am]

BILLING CODE 9110-04-P